DEPARTMENT OF HOMELAND SECURITY

U.S. Citizenship and Immigration Services

[CIS No. 2813-25; DHS Docket No. USCIS-2014-004]

RIN 1615-ZB79

Extension of South Sudan Designation for Temporary Protected Status

AGENCY: U.S. Citizenship and Immigration Services (USCIS), Department of Homeland Security (DHS).

ACTION: Notice of extension of Temporary Protected Status (TPS) designation.

SUMMARY: The designation of South Sudan for Temporary Protected Status (TPS), which was set to expire on May 3, 2025, is automatically extended to November 3, 2025. Under the TPS statute, if the Secretary does not determine whether a foreign state continues to meet the conditions for designation for TPS at least 60 days before the current expiration of the country's TPS designation, the period of designation is automatically extended for six months. The Secretary was unable to make an informed determination on South Sudan's designation by the March 4, 2025 statutory deadline due to the lack of an updated analysis of current country conditions in South Sudan. Accordingly, the TPS designation of South Sudan is automatically extended for six months, from May 4, 2025, through November 3, 2025.

DATES: The six-month extension of South Sudan for TPS is effective May 4, 2025, and will remain in effect through November 3, 2025.

FOR FURTHER INFORMATION CONTACT:

• You may contact Rená Cutlip-Mason, Chief, Humanitarian Affairs Division, Office of Policy and Strategy, U.S. Citizenship and Immigration Services, Department of Homeland Security, by mail at 5900 Capital Gateway Drive, Camp Springs, MD 20746, or by phone at 240-721-3000.

• For more information on TPS, please visit the USCIS TPS web page at https://www.uscis.gov/tps. You can find specific information about South Sudan's TPS designation by selecting “South Sudan” from the menu on the left side of the TPS web page.

• If you have additional questions about TPS, please visit https://uscis.gov/tools. Our online virtual assistant, Emma, can answer many of your questions and point you to additional information on our website. If you cannot find your answers there, you may also call our USCIS Contact Center at 800-375-5283 (TTY 800-767-1833).

• Applicants seeking information about the status of their individual cases may check Case Status Online, available on the USCIS website at uscis.gov, or visit the USCIS Contact Center at https://www.uscis.gov/contactcenter.

• You can also find more information at local USCIS offices after this notice is published.

SUPPLEMENTARY INFORMATION:

Table of Abbreviations

BIA—Board of Immigration Appeals

CFR—Code of Federal Regulations

DHS—U.S. Department of Homeland Security

DoS—U.S. Department of State

EAD—Employment Authorization Document

FNC—Final Non-confirmation

Form I-131—Application for Travel Documents, Parole Documents, and Arrival/Departure Records

Form I-765—Application for Employment Authorization

Form I-797—Notice of Action (Approval Notice)

Form I-797C—Notice of Action (Receipt Notice)

Form I-821—Application for Temporary Protected Status

Form I-9—Employment Eligibility Verification

Form I-912—Request for Fee Waiver

Form I-94—Arrival/Departure Record

FR—Federal Register

Government—U.S. Government

IER—U.S. Department of Justice, Civil Rights Division, Immigrant and Employee Rights Section

IJ—Immigration Judge

INA—Immigration and Nationality Act

PDF—Portable Document Format

SAVE—USCIS Systematic Alien Verification for Entitlements Program

Secretary—Secretary of Homeland Security

TPS—Temporary Protected Status

TTY—Text Telephone

USCIS—U.S. Citizenship and Immigration Services

U.S.C.—United States Code

Registration Information

Automatic Six-Month Extension of TPS Designation of South Sudan: Registration is not required for the automatic six-month extension of the designation of South Sudan for TPS. The automatic extension begins on May 4, 2025, and will end on November 3, 2025. The extension allows existing TPS beneficiaries to retain TPS through November 3, 2025, if they otherwise continue to meet the eligibility requirements for TPS.¹ This extension automatically extends the validity of Employment Authorization Documents (EADs) previously issued under the TPS designation of South Sudan for six months, from May 4, 2025, through November 3, 2025. Existing TPS beneficiaries who wish to apply for an EAD for the first time, or who already have an EAD and would like to obtain an updated EAD with an expiration date on the face of the card of November 3, 2025, may submit Form I-765, Application for Employment Authorization and the appropriate fee. TPS remains available to otherwise qualified nationals of South Sudan (or in the case of an alien with no nationality, an alien who last habitually resided in South Sudan) who have been continuously residing in the United States since September 4, 2023.²

¹ Eligibility Requirements may be found on the USCIS website at https://www.uscis.gov/tps under “South Sudan.”

² See Extension and Redesignation of South Sudan for Temporary Protected Status, 88 FR 60971 (Sept. 6, 2023); see also Extension and Redesignation of South Sudan for Temporary Protected Status, 88 FR 62386 (Sept. 11, 2023) (correction).

Purpose of This Action (TPS)

The automatic extension allows TPS beneficiaries from South Sudan to maintain TPS through November 3, 2025, so long as they continue to meet the eligibility requirements for TPS. Current TPS beneficiaries are reminded that, no later than sixty days prior to November 3, 2025, the Secretary intends to review the conditions in South Sudan and decide whether extension or termination is warranted in accordance with the TPS statute. During this period, beneficiaries are encouraged to prepare for their return to South Sudan, including requesting updated travel documents from the government of South Sudan, in the event South Sudan's designation is not extended again and if they have no other lawful basis for remaining in the United States.

Through this Federal Register notice, DHS automatically extends the validity of EADs previously issued under the TPS designation of South Sudan for six months, from May 4, 2025, through November 3, 2025. As proof of continued employment authorization through November 3, 2025, TPS beneficiaries can show their EAD with a Category of A12 or C19 and a “Card Expires” date of May 3, 2025, or November 3, 2023. This notice explains how TPS beneficiaries and their employers may determine if an EAD is automatically extended and how this affects the Form I-9, Employment Eligibility Verification, E-Verify, and USCIS Systematic Alien Verification for Entitlements (SAVE) processes.

Aliens who have an Application for Temporary Protected Status (Form I-821) for South Sudan or a South Sudan TPS-related Application for Employment Authorization (Form I-765) that was still pending as of May 6, 2025 do not need to file either application again. If USCIS approves an alien's pending Form I-821, USCIS will grant the alien TPS through November 3, 2025. Similarly, if USCIS approves a pending South Sudan TPS-related Form I-765, USCIS will issue the alien a new EAD that will be valid through the same date, November 3, 2025.

What is Temporary Protected Status (TPS)?

• TPS is a temporary immigration status granted to eligible nationals of a foreign state designated for TPS under the Immigration and Nationality Act (INA), or to eligible aliens without nationality who last habitually resided in the designated foreign state, regardless of their country of birth.

• During the TPS designation period, TPS beneficiaries are eligible to remain in the United States, generally may not be removed, are authorized to work, and may obtain EADs if they continue to meet the requirements of TPS.

• TPS beneficiaries may also apply for and be granted travel authorization as a matter of DHS discretion.

• To qualify for TPS, beneficiaries must meet the eligibility standards at INA section 244(c)(1)-(2), 8 U.S.C. 1254a(c)(1)-(2).

• When the Secretary terminates a foreign state's TPS designation, beneficiaries return to one of the following:

○ The same immigration status or category that they maintained before TPS, if any (unless that status or category has since expired or terminated); or

○ Any other lawfully obtained immigration status or category they received while registered for TPS, as long as it is still valid beyond the date TPS terminates.

When was South Sudan designated for TPS?

South Sudan was initially designated for TPS on October 13, 2011, on the dual bases of ongoing armed conflict and extraordinary and temporary conditions that prevented nationals of South Sudan from safely returning.³ Following the initial designation, DHS extended and newly designated South Sudan for TPS in 2013, 2014, and 2016.⁴ In 2017, 2019, and 2020, DHS extended the TPS designation for South Sudan, based on ongoing armed conflict and extraordinary and temporary conditions, and extended and newly designated TPS for South Sudan on the same bases in 2022.⁵ Most recently, in September 2023, DHS extended and newly designated South Sudan for TPS for 18 months based on ongoing armed conflict and extraordinary and temporary conditions, from November 4, 2023, to May 3, 2025.⁶

³ See Designation of Republic of South Sudan for Temporary Protected Status, 76 FR 63629 (Oct. 13, 2011).

⁴ See Extension and Redesignation of South Sudan for Temporary Protected Status, 78 FR 1866 (Jan. 9, 2013); Extension and Redesignation of South Sudan for Temporary Protected Status, 79 FR 52019 (Sept. 2, 2014); and Extension and Redesignation of South Sudan for Temporary Protected Status, 81 FR 4051 (Jan. 25, 2016).

⁵ See Extension of South Sudan for Temporary Protected Status, 82 FR 44205 (Sept. 21, 2017); Extension of the Designation of South Sudan for Temporary Protected Status, 84 FR 13688 (Apr. 5, 2019); Extension of the Designation of South Sudan for Temporary Protected Status, 85 FR 69344 (Nov. 2, 2020); and Extension and Redesignation of South Sudan for Temporary Protected Status, 87 FR 12190 (Mar. 3, 2022).

⁶ See Extension and Redesignation of South Sudan for Temporary Protected Status, 88 FR 60971 (Sept. 6, 2023); see also Extension and Redesignation of South Sudan for Temporary Protected Status, 88 FR 62386 (Sept. 11, 2023) (correction).

Why is the TPS designation for South Sudan being automatically extended through November 3, 2025?

The designation of South Sudan for TPS is set to expire on May 3, 2025. At least 60 days before the expiration of a country's TPS designation or extension, the Secretary, after consultation with appropriate Government agencies, must review the conditions in a foreign state designated for TPS to determine whether the conditions for the TPS designation continue to be met.⁷ If the Secretary does not make a determination that a foreign state no longer meets the conditions for designation for TPS at least 60 days before the current expiration of the country's TPS designation, the period of designation is automatically extended for six additional months (or, in the Secretary's discretion, 12 or 18 months).⁸

⁷ INA sec. 244(b)(3)(A).

⁸ INA sec. 244(b)(3)(C).

In this instance, the record of country conditions and consultation from Department of State for South Sudan was not able to be updated prior to the statutory deadline of March 4, 2025. The Secretary only had a non-current record from Department of State that was signed November 6, 2024, approximately four months prior to when the Secretary needed to make a decision, and the record did not contain a meaningful national interest discussion. Therefore, the Secretary was not presented with a current country conditions analysis that would allow her to make an informed determination on South Sudan's designation by March 4, 2025. Accordingly, the TPS designation of South Sudan is automatically extended for six months from May 4, 2025, ending on November 3, 2025.⁹ The Secretary will extend the TPS designation for a period of six months in alignment with Executive Order 14159, Protecting the American People Against Invasion, which states that “designations of Temporary Protected Status are consistent with the provisions of section 244 of the INA (8 U.S.C. 1254a), and that such designations are appropriately limited in scope and made for only so long as may be necessary to fulfill the textual requirements of that statue.” ¹⁰ During this period, DHS will review, in consultation with appropriate agencies, updated country conditions in South Sudan and evaluate whether permitting South Sudanese nationals “to remain temporarily in the United States is contrary to the national interest of the United States.” In doing so, the Secretary will be able to make a determination by the next statutory deadline of September 4, 2025. INA 244(b)(1)(A), (C), (b)(3); 8 U.S.C. 1254a(b)(1)(A), (C), (b)(3).

⁹ There have previous instances in which a TPS designation has been automatically extended. In 2017, the Secretary did not make a determination regarding the TPS designation for Honduras by the statutory deadline, and the TPS designation accordingly was automatically extended for six months. See Extension of the Designation of Honduras for Temporary Protected States, 82 FR 59630 (Dec. 15, 2017). Likewise, in 2000, the TPS designation for Guinea-Bissau was automatically extended for six months because the Attorney General did not make their determination before the statutory deadline. See Six-Month Extension and Termination of Designation of Guinea-Bissau Under the Temporary Protected Status Program, 65 FR 15016 (Mar. 20, 2000).

¹⁰ See Executive Order 14159, Protecting the American People Against Invasion, 90 FR 8443 (Jan. 20, 2025).

DHS estimates that there are approximately 200 nationals of South Sudan (and aliens having no nationality who last habitually resided in South Sudan) who hold TPS under South Sudan's designation.

Notice of the Extension of Designation of South Sudan for TPS

Pursuant to INA sec. 244(b)(3)(A) and (C), 8 U.S.C. 1254a(b)(3)(A) and (C), the TPS designation for South Sudan is automatically extended for six months, from May 4, 2025, through November 3, 2025.

Kristi Noem,
Secretary, U.S. Department of Homeland Security.

Eligibility for TPS

DHS most recently extended and newly designated South Sudan for TPS for 18 months based on ongoing armed conflict and extraordinary and temporary conditions, from November 4, 2023, to May 3, 2025.¹¹ Beneficiaries of TPS for South Sudan under this designation will continue to retain TPS from May 4, 2025, to November 3, 2025, through a six-month automatic extension. TPS remains available to otherwise qualified nationals of South Sudan (or in the case of an alien with no nationality, an alien who last habitually resided therein) who have been continuously residing in the United States since September 4, 2023. Assuming they continue to meet the eligibility requirements for TPS, current beneficiaries do not need to take additional action in order for their TPS to be extended.

¹¹ See Extension and Redesignation of South Sudan for Temporary Protected Status, 88 FR 60971 (Sept. 6, 2023).

Aliens who have a South Sudan TPS application (Form I-821) that was still pending as of May 6, 2025 do not need to file the Form I-821 application again. If USCIS approves an alien's Form I-821, USCIS will grant the alien TPS through November 3, 2025.

Eligibility for Employment Authorization

Everyone must provide their employer with documentation showing that they have the legal right to work in the United States. TPS beneficiaries are eligible to obtain an EAD, which proves their legal right to work while the EAD is valid.

If you already have an EAD with an expiration date of May 3, 2025, or November 3, 2023, this Federal Register notice automatically extends your EAD through November 3, 2025, without any further action on your part. You may present this Federal Register notice or any other additional documentation other than your EAD to use this automatic extension but are not required to. This extension automatically extends the validity of certain EADs previously issued under the TPS designation of South Sudan for six months, from May 4, 2025, through November 3, 2025.

Beneficiaries with a South Sudan TPS-related Form I-765 that was still pending as of May 6, 2025, do not need to file the application again. If USCIS approves a pending South Sudan TPS-related Form I-765, USCIS will issue the alien a new EAD that will be valid through November 3, 2025.

Existing TPS beneficiaries who wish to apply for an EAD for the first time, or who already have an EAD and would like to obtain an updated EAD with an expiration date on the face of the card of November 3, 2025, may submit Form I-765, Application for Employment Authorization and pay the Form I-765 fee (or request a fee waiver, which you may submit on Form I-912).¹²

¹² Please visit the USCIS Form I-765, Application for Employment Authorization web page at https://www.uscis.gov/i-765/ for information about filing instructions. Fees for the Form I-765 are described in 8 CFR 106.2 and the fee waiver-related regulations are described in 8 CFR 106.3. In addition, USCIS Form G-1055, Fee Schedule, provides the current fees required for the Form I-765. You are not required to submit Form I-765 or have an EAD to be granted or to maintain TPS. Aliens should be aware that these requests may not be processed before November 3, 2025.

You are not required to submit Form I-765 or have an EAD to be granted or to maintain TPS.

Can my TPS-related EAD be automatically extended?

Yes. If you already have an EAD with an expiration date of May 3, 2025, or November 3, 2023, this Federal Register notice automatically extends your EAD through November 3, 2025, without any further action on your part. You do not need to present this Federal Register notice or any other additional documentation other than your EAD to use this automatic extension.

Filing Information

Filing a new application for an EAD based on the six-month automatic extension of TPS for South Sudan is unnecessary. As mentioned throughout, this Federal Register automatically extends your EAD through November 3, 2025, without any further action on your part. Indeed, USCIS acknowledges that given the six-month automatic extension of TPS designation for South Sudan, there may not be sufficient time for the agency to receive, review, adjudicate and issue new EADs on the basis of the automatic extension of TPS for South Sudan. However, USCIS offers the option to applicants for TPS under South Sudan's designation to file requests for EADs online, by mail, or under certain circumstances, by uploading a completed Form I-765 with a fee or fee waiver request in Portable Document Format (PDF) through your USCIS online account. More information about filing your Form I-765 and fee waiver request through a PDF upload is available at https://www.uscis.gov/file-online/forms-available-to-file-online. If you request a fee waiver, you must submit your application by mail or PDF upload.

Online filing: Form I-765 is available for filing online.¹³ To file online, you must first create a USCIS online account.¹⁴

¹³ Find information about online filing at “Forms Available to File Online,” https://www.uscis.gov/file-online/forms-available-to-file-online.

¹⁴ https://myaccount.uscis.gov/users/sign_up.

PDF upload: Form I-765, if applicable, and Form I-912, if applicable, are available for PDF upload. To upload these documents, you must first create a USCIS online account.¹⁵

¹⁵ https://www.uscis.gov/file-online/forms-available-to-file-online. Sign up to create a new USCIS online account at https://myaccount.uscis.gov/users/sign_up.

Mail filing: Mail your completed Form I-765 and Form I-912, if applicable; and supporting documentation to the proper address in Table 1—Mailing Addresses.

Table 1—Mailing Addresses
If you send your paper application via: | Then, mail your application to . . .
U.S. Postal Service USPS | USCIS, Attn: TPS South Sudan, P.O. Box 6943, Chicago, IL 60680-6943.
FedEx, UPS, and DHL deliveries | USCIS, Attn: TPS South Sudan (Box 6943), 131 S. Dearborn Street 3rd Floor, Chicago, IL 60603-5517.

If you were granted TPS by an immigration judge (IJ) or the Board of Immigration Appeals (BIA) and you wish to request an EAD, you may file Form I-765 online, mail your Form I-765 to the appropriate address in Table 1, or submit a PDF upload. If you file online, you will be prompted to include the fee. If you file by mail, you must include the fee or fee waiver request. If you file by PDF upload, you must include the fee or a fee waiver request. When you request an EAD based on an IJ or BIA grant of TPS, include with your application a copy of the order from the IJ or BIA granting you TPS. This will help us verify your grant of TPS and process your application.

Travel

TPS beneficiaries and TPS applicants with pending Form I-821 applications who wish to travel outside of the United States should consult the USCIS website for guidance.

General Employment-Related Information for TPS Applicants and Their Employers

How can I obtain information on the status of my TPS application and EAD request?

To get case status information about your TPS application, as well as the status of your TPS-based EAD request, you can check Case Status Online at https://uscis.gov or visit the USCIS Contact Center at https://www.uscis.gov/contactcenter. If you still need assistance, you may ask a question about your case online at https://egov.uscis.gov/e-request/Intro.do or call the USCIS Contact Center at 800-375-5283 (TTY 800-767-1833).

Am I eligible to receive an automatic extension of my current EAD through November 3, 2025, through this Federal Register notice?

Yes. Regardless of your country of birth, if you currently have a South Sudan TPS-based EAD with a Category of A12 or C19 and a “Card Expires” date of May 3, 2025, or November 3, 2023, this Federal Register notice automatically extends your EAD through November 3, 2025.

If hired, what documentation may I show to my employer as evidence of identity and employment authorization when completing Form I-9?

You can find the Lists of Acceptable Documents on Form I-9, Employment Eligibility Verification, as well as the Acceptable Documents web page at https://www.uscis.gov/i-9-central/acceptable-documents. Employers must complete Form I-9 to verify the identity and employment authorization of all new employees. Within three business days of hire, employees must present acceptable documents to their employers as evidence of identity and employment authorization to satisfy Form I-9 requirements.

You may present one selection from List A (which provides evidence of both identity and employment authorization) or one selection from List B (which provides evidence of your identity) together with one selection from List C (which provides evidence of employment authorization), or you may present an acceptable receipt as described in these lists. Employers may not reject a document based on a future expiration date. You can find additional information about Form I-9 on the I-9 Central web page at https://www.uscis.gov/I-9Central. An EAD is an acceptable document under List A. See the section “How do my employer and I complete Form I-9 using my automatically extended EAD for a new job?” of this Federal Register notice for more information.

If your EAD states A12 or C19 under Category and has a “Card Expires” date of May 3, 2025, or November 3, 2023, this Federal Register notice extends it automatically, and you may choose to present your EAD to your employer as proof of identity and employment eligibility for Form I-9 through November 3, 2025. Your country of birth noted on the EAD does not have to reflect the TPS-designated country of South Sudan for you to be eligible for this extension. You may, but are not required to, show this Federal Register notice to your employer to explain what to do for Form I-9 and to show that USCIS has automatically extended your EAD through November 3, 2025.

What documentation may I present to my employer for Form I-9 if I am already employed but my current TPS-related EAD is set to expire?

Your employer is required by law to ask you about your continued employment authorization. Your employer may need to reexamine your automatically extended EAD to check the “Card Expires” date and Category code if your employer did not keep a copy of your EAD when you initially presented it. Once your employer has reviewed the “Card Expires” date and Category code, they should update the EAD expiration date in Section 2 of Form I-9. See the section “What updates should my current employer make to Form I-9 if my EAD has been automatically extended?” of this Federal Register notice for more information.

You may show this Federal Register notice to your employer to explain what to do for Form I-9 and to show that USCIS has automatically extended your EAD through November 3, 2025; however, you are not required to do so. The last day of this automatic EAD extension is November 3, 2025. Before you start work on November 4, 2025, your employer is required by law to reverify your employment authorization on Form I-9.

By the end date of your automatic EAD extension, you must present any document from List A or any document from List C on Form I-9 Lists of Acceptable Documents, or an acceptable List A or List C receipt described in these lists to reverify employment authorization.

Your employer may not specify which List A or List C document you must present and cannot reject an acceptable receipt.

If I have an EAD based on another immigration status, can I obtain a new TPS-based EAD?

Yes, if you are eligible for TPS, you can obtain a new TPS-based EAD, even if you already have an EAD or work authorization based on another immigration status. If you want to obtain a new TPS-based EAD with an expiration date on the face of the card of November 3, 2025, you must file Form I-765 and pay the associated fee (unless USCIS grants your fee waiver request).

Can my employer require that I provide any other documentation to complete Form I-9, such as evidence of my status, proof of my South Sudanese citizenship, or a Form I-797 showing that I registered for TPS?

No. When completing Form I-9, employers must accept any documentation you choose to present from the Form I-9 Lists of Acceptable Documents, or an acceptable List A, List B, or List C receipt, that reasonably appears to be genuine and that relates to you. Employers may not request other documentation, such as proof of South Sudanese citizenship or proof of registration for TPS, when completing Form I-9 for new hires or reverifying the employment authorization of current employees. If you present an EAD that USCIS has automatically extended, employers should accept it as a valid List A document if the EAD reasonably appears to be genuine and to relate to you. Refer to the “Note to Employees” section of this Federal Register notice for important information about your rights if your employer rejects lawful documentation, requires additional documentation, or otherwise discriminates against you based on your citizenship or immigration status or your national origin.

How do my employer and I complete Form I-9 using my automatically extended EAD for a new job?

When using an automatically extended EAD to complete Form I-9 for a new job before November 4, 2025:

1. For Section 1, you should:

a. Check “An alien authorized to work until” and enter November 3, 2025, as the “expiration date”; and

b. Enter your USCIS number or A-Number where indicated. (Your EAD or other document from DHS will have your USCIS number or A-Number printed on it; the USCIS number is the same as your A-Number without the A prefix.)

2. For Section 2, employers should:

a. Determine whether the EAD is auto-extended by ensuring it is in category A12 or C19 and has a “Card Expires” date of May 3, 2025, or November 3, 2023;

b. Write in the document title;

c. Enter the issuing authority;

d. Provide the document number; and

e. Write November 3, 2025, as the expiration date.

Before the start of work on November 4, 2025, employers must reverify the employee's employment authorization on Form I-9.

What updates should my current employer make to Form I-9 if my EAD has been automatically extended?

If you presented a TPS-related EAD that was valid when you first started your job and USCIS has now automatically extended your EAD, your employer may need to re-examine your current EAD if they do not have a copy of the EAD on file. Your employer should determine whether your EAD is automatically extended by ensuring that it contains Category A12 or C19.

Your employer should examine your EAD to see if it has a “Card Expires” date of May 3, 2025, or November 3, 2023. Your employer may not rely on the country of birth listed on the card to determine whether you are eligible for this extension.

If your employer determines that USCIS has automatically extended your EAD, they should update Section 2 of your previously completed Form I-9 as follows:

1. Write EAD EXT and November 3, 2025, as the last day of the automatic extension in the Additional Information field; and

2. Initial and date the correction.

Note: This is not considered a reverification. Employers do not reverify the employee until either the automatic extension has ended, or the employee presents a new document to show continued employment authorization, whichever is sooner. By November 4, 2025, when the employee's automatically extended EAD has expired, employers are required by law to reverify the employee's employment authorization on Form I-9.

If I am an employer enrolled in E-Verify, how do I verify a new employee whose EAD has been automatically extended?

Employers may create a case in E-Verify for a new employee by entering the EAD document number and expiration date from Section 2 of Form I-9 into the corresponding fields in E-Verify.

If I am an employer enrolled in E-Verify, what do I do when I receive a “Work Authorization Documents Expiring” alert for an automatically extended EAD?

If you have an employee who provided a TPS-related EAD when they first started working for you, you will receive a “Work Authorization Documents Expiring” case alert when the auto-extension period for this EAD is about to expire. You must reverify your employee's employment authorization on Form I-9 by the date their automatic EAD extension ends. Employers may not use E-Verify for reverification.

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I-9Central@uscis.dhs.gov. For questions about avoiding discrimination during the employment eligibility verification process (Form I-9 and E-Verify), employers may call the U.S. Department of Justice, Civil Rights Division, Immigrant and Employee Rights Section (IER) Employer Hotline at 800-255-8155 (TTY 800-237-2515). Employers may also email IER at IER@usdoj.gov or get more information online at https://www.justice.gov/ier.

Note to Employees

For general questions about the employment eligibility verification process, employees may call USCIS at 888-897-7781 (TTY 877-875-6028) or email USCIS at I-9Central@uscis.dhs.gov. Employees or job applicants may also call the U.S. Department of Justice, Civil Rights Division, Immigrant and Employee Rights Section (IER) Worker Hotline at 800-255-7688 (TTY 800-237-2515) for information regarding employment discrimination based on citizenship, immigration status, or national origin, including discrimination related to Form I-9 and E-Verify.

To comply with the law, employers must accept any document or combination of documents from the Lists of Acceptable Documents if the documentation reasonably appears to be genuine and to relate to the employee, or an acceptable List A, List B, or List C receipt as described in these lists. Employers may not require extra or additional documentation other than what is required to complete Form I-9. Further, employers participating in E-Verify who receive an E-Verify case result of “Tentative Non-confirmation” (mismatch) must promptly inform employees of the mismatch and give these employees an opportunity to resolve the mismatch. A mismatch means that the information entered into E-Verify from Form I-9 differs from records available to DHS.

Employers may not terminate, suspend, delay training, withhold or lower pay, or take any adverse action against an employee because of a mismatch while the case is still pending with E-Verify. A Final Non-confirmation (FNC) case result occurs if E-Verify cannot confirm an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at https://www.justice.gov/ier and the USCIS and E-Verify websites at https://www.uscis.gov/i-9-central and https://www.e-verify.gov.

Note Regarding Federal, State, and Local Government Agencies (Such as Departments of Motor Vehicles)

For Federal purposes, if you present an EAD that has been automatically extended by this this Federal Register notice, you do not need to show any other document, such as a Form I-797C, Notice of Action, reflecting receipt of a Form I-765 EAD renewal application or this Federal Register notice, to prove that you qualify for this extension. While Federal Government agencies must follow the guidelines laid out by the Federal Government, State and local government agencies establish their own rules and guidelines when granting certain benefits. Each state may have different laws, requirements, and determinations about what documents you need to provide to prove eligibility for certain benefits. Whether you are applying for a Federal, State, or local government benefit, you may need to provide the government agency with documents that show you are a TPS beneficiary or applicant, show you are authorized to work based on TPS or other status, or that may be used by DHS to determine if you have TPS or another immigration status. Examples of such documents are:

• Your current EAD with a TPS category code of A12 or C19, even if your country of birth noted on the EAD does not reflect the TPS-designated country of South Sudan;

• Your Form I-94, Arrival/Departure Record;

• Your Form I-797, Notice of Action, reflecting approval of your Form I-765; or

• Form I-797 or Form I-797C, Notice of Action, reflecting approval or receipt of a past or current Form I-821, if you received one from USCIS.

Check with the government agency requesting documentation about which document(s) the agency will accept.

Some state and local government agencies use SAVE, https://www.uscis.gov/save, to confirm the current immigration status of applicants for public benefits. While SAVE can verify that an alien has TPS or a pending TPS application, each agency's procedures govern whether they will accept an unexpired EAD, Form I-797, Form I-797C, or Form I-94. If an agency accepts the type of TPS-related document you present, such as an EAD, the agency should accept your automatically extended EAD, regardless of the country of birth listed on the EAD. It may assist the agency if you:

a. Give the agency a copy of the relevant Federal Register notice showing the extension of TPS-related documentation in addition to your recent TPS-related document with your A-Number, USCIS number, or Form I-94 number;

b. Explain that SAVE will be able to verify the continuation of your TPS using this information; and

c. Ask the agency to initiate a SAVE query with your information and follow through with additional verification steps, if necessary, to get a final SAVE response verifying your TPS.

You can also ask the agency to look for SAVE notices or contact SAVE if they have any questions about your immigration status or automatic extension of TPS-related documentation. In most cases, SAVE provides an automated electronic response to benefit-granting agencies within seconds, but occasionally verification can be delayed.

You can check the status of your SAVE verification by using Case-Check at https://www.uscis.gov/save/save-casecheck. Case-Check is a free service that lets you follow the progress of your SAVE verification case using your date of birth and one immigration identifier number (such as your A-Number, USCIS number, or Form I-94 number) or Verification Case Number. If an agency has denied your application based solely or in part on a SAVE response, the agency must allow you to appeal the decision in accordance with the agency's procedures. If the agency has received and acted on or will act on a SAVE verification and you do not believe the SAVE response is correct, the SAVE website, https://www.uscis.gov/save/for-benefit-applicants, has detailed information on how to correct or update your immigration record, make an appointment, or submit a written request to correct records.

[FR Doc. 2025-07976 Filed 5-2-25; 4:15 pm]

BILLING CODE 9111-97-P